DEPARTMENT OF COMMERCE

International Trade Administration

[A-791-809]

Notice of Final Determination of Sales at Less Than Fair Value: Certain Hot-Rolled Carbon Steel Flat Products from South Africa

AGENCY: Import Administration, International Trade Administration, Department of Commerce.

EFFECTIVE DATE: July 16, 2001.

FOR FURTHER INFORMATION CONTACT: Doug Campau or Maureen Flannery at (202) 482-1395 or (202) 482-3020, respectively; Office of Antidumping/Countervailing Duty Enforcement VII, Import Administration, International Trade Administration, U.S. Department of Commerce, 14th Street and Constitution Avenue, NW, Washington, DC 20230.

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce (Department) regulations are to the regulations at 19 CFR part 351 (April 2001).

Final Determination

We determine that certain hot-rolled carbon steel flat products (HR) from South Africa are being, or are likely to be sold, in the United States at less than fair value (LFTV), as provided in section 735 of the Act. The estimated margins are shown in the “Suspension of Liquidation” section of this notice.

Background

On May 3, 2001, the Department published its preliminary determination in the above-captioned antidumping duty investigation. See Notice of Preliminary Determination of Sales at Less Than Fair Value: Certain Hot-Rolled Carbon Steel Flat Products from South Africa, 66 FR 22173 (May 3, 2001) (Preliminary Determination).

On January 25, 2001, Saldahna Steel Limited (Saldanha), and Iscor Limited (Iscor), two of the three mandatory respondents, informed the Department that they would not be responding to the Department's questionnaire. Just prior to publication of the Preliminary Determination, Highveld Steel and Vanadium Corporation Limited (Highveld)-—the only respondent to have submitted information in response to the Department's questionnaires—was afforded an additional opportunity to submit information to the record via supplemental cost and sales questionnaires issued by the Department on April 10 and April 17, 2001, respectively. The Department received the responses to its April 10 and April 17, 2001 supplemental cost and sales questionnaires on April 20 and 27, 2001, respectively. The April 27, 2001 supplemental sales questionnaire response was filed on Highveld's behalf by Highveld's affiliated U.S. reseller. On May 23, 2001, we rejected the submission filed by Highveld's affiliated U.S. reseller. See letters to Highveld and Highveld's affiliated U.S. reseller dated May 23, 2001. On May 23, 2001, we rejected Highveld's submission(s). See letter to Highveld dated May 23, 2001.

We gave interested parties an opportunity to comment on the preliminary determination. No case or rebuttal briefs were submitted. On June 4, 2001, the petitioners requested a hearing in this case. On June 13, 2001, the petitioners withdrew their request.

Scope of Investigation

For purposes of this investigation, the products covered are certain hot-rolled carbon steel flat products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of this investigation. Specifically included within the scope of this investigation are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of these investigations, regardless of definitions in the Harmonized Tariff Schedule of the United States (HTS), are products in which: (i) Iron predominates, by weight, over each of the other contained elements; (ii) the carbon content is 2 percent or less, by weight; and (iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of this investigation unless otherwise excluded. The following products, by way of example, are outside or specifically excluded from the scope of this investigation:

• Alloy hot-rolled steel products in which at least one of the chemical elements exceeds those listed above (including, e.g., ASTM specifications A543, A387, A514, A517, A506).

• Society of Automotive Engineers (SAE)/American Iron and Steel Institute (AISI) grades of series 2300 and higher.

• Ball bearings steels, as defined in the HTS.

• Tool steels, as defined in the HTS.

• Silico-manganese (as defined in the HTS) or silicon electrical steel with a silicon level exceeding 2.25 percent.

• ASTM specifications A710 and A736.

• USS Abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTS.

The merchandise subject to this investigation is classified in the HTS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled flat-rolled carbon steel flat products covered by this investigation, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTS subheadings are provided for convenience and U.S. Customs purposes, the written description of the merchandise under investigation is dispositive.

Analysis of Comments Received

As noted above, there were no case or rebuttal briefs submitted in this investigation, nor was there a hearing. There were, however, further supplemental questionnaire responses supplied by Highveld and its U.S. affiliate after the publication of the Preliminary Determination. An explanation of the history of this investigation following the preliminary determination can be found in the Issues and Decision Memorandum for Final Determination (Decision Memorandum), dated July 9, 2001, which is hereby adopted by this notice. The Decision Memorandum is on file in the Central Records Unit, room B-099 (“B-099”) of the main Department building. In addition, a complete version of the Decision Memorandum can be accessed directly on the Web at http://ia.ita.doc.gov. The paper copy and electronic version of the Decision Memorandum are identical in content.

Use of Facts Available

In the Preliminary Determination, the Department applied total adverse facts available to each mandatory respondent. Specifically, the Department assigned the mandatory respondents the rate of 9.28 percent—the margin calculated from information in the petition and information gathered by the Department, and used for initiation. The Department also applied the 9.28 percent margin as the “all others” rate. The interested parties did not object to the use of adverse facts available, nor to the Department's choice of facts available.

Subsequent to the Preliminary Determination, both Highveld and its affiliated U.S. reseller submitted additional information to the Department, but for reasons discussed in greater detail in the Decision Memorandum, we have continued to use facts available for purposes of this final determination. As also discussed in the Decision Memorandum, notwithstanding these submissions, we have determined that Highveld did not cooperate to the best of its ability to comply with the Department's requests for information. Therefore, the Department continues to find, pursuant to section 776(b) of the Act, that the use of adverse facts available is warranted. Consequently, we have continued to apply the rate of 9.28 percent for purposes of this final determination.

Affiliation

In the Preliminary Determination, the Department concluded that, in accordance with section 771(33)(E) of the Act, Iscor and Saldanha are affiliated for purposes of this proceeding. No new facts were submitted, or arguments made, which would cause the Department to revisit this decision. Therefore, we continue to determine that these companies are affiliated for purposes of this proceeding.

Suspension of Liquidation

Pursuant to section 735(c)(1)(B) of the Act, we are instructing the U.S. Customs Service to continue to suspend liquidation of all entries of HR from South Africa that are entered, or withdrawn from warehouse, for consumption on or after May 3, 2001 (the date of publication of the Preliminary Determination in the Federal Register). The Customs Service shall continue to require a cash deposit or the posting of a bond equal to the estimated amount by which the normal value exceeds the U.S. price as shown below. The suspension of liquidation instructions will remain in effect until further notice.

We determine that the following percentage margins exist for the period October 1, 1999 through September 30, 2000:

Exporter/Manufacturer | Margin (Percent)
Highveld Steel and Vanadium Corporation Limited | 9.28
Iscor Limited/Saldanha Steel Limited | 9.28
All Others | 9.28

ITC Notification

In accordance with section 735(d) of the Act, we have notified the International Trade Commission (ITC) of our determination. As our final determination is affirmative, the ITC will determine, within 45 days, whether these imports are causing material injury, or threat of material injury, to an industry in the United States. If the ITC determines that material injury, or threat of injury does not exist, the proceeding will be terminated and all securities posted will be refunded or cancelled. If the ITC determines that such injury does exist, the Department will issue an antidumping duty order directing Customs officials to assess antidumping duties on all imports of the subject merchandise entered, or withdrawn from warehouse, for consumption on or after the effective date of the suspension of liquidation.

Notification Regarding APO

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 735(d) and 777(i)(1) of the Act.

Dated: July 9, 2001.
Faryar Shirzad,
Assistant Secretary for Import Administration.

[FR Doc. 01-17718 Filed 7-13-01; 8:45 am]

BILLING CODE 3510-DS-P